DEPARTMENT OF TRANSPORTATION

Federal Aviation Administration

14 CFR Part 71

[Docket No. FAA-2003-22496; Airspace Docket No. 04-ANM-26]

RIN 2120-AA66

Amendment to Jet Route J-158; ID

AGENCY: Federal Aviation Administration (FAA), DOT.

ACTION: Final rule.

SUMMARY: This action revises a segment of Jet Route J-158 between the Malad City, ID, Very High Frequency Omni-directional Range/Distance Measuring Equipment (VOR/DME) and the Muddy Mountain, WY, Very High Frequency Omni-directional Range/Tactical Air Navigation (VORTAC). Specifically, the FAA is realigning the route from Malad City, ID, to Big Piney, WY, VOR/DME to Muddy Mountain, WY. This action replaces an airway segment taken out of service, reduces controller workload, and enhances the National Airspace System.

EFFECTIVE DATE: 0901 UTC, February 16, 2006.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION:

History

On October 4, 2005, the FAA published in the Federal Register a notice of proposed rulemaking to revise J-158 between the Malad City, ID, VOR/DME and the Muddy Mountain, WY, VORTAC (70 FR 57806). Interested parties were invited to participate in this rulemaking effort by submitting written comments on the proposal. No comments were received. With the exception of editorial changes, this amendment is the same as that proposed in the notice.

The Rule

This action amends Title 14 Code of Federal Regulations (14 CFR) part 71 to revise a segment of J-158. This amendment would insert a segment extending from Malad City, ID, VOR/DME to Big Piney, WY, VOR/DME to Muddy Mountain, WY, VORTAC, and restores the use of J-158 between Malad City and Muddy Mountain.

Domestic Jet Routes are published in paragraph 2004 of FAA Order 7400.9N dated September 1, 2005, and effective September 15, 2005, which is incorporated by reference in 14 CFR 71.1. The domestic Jet Route listed in this document will be published subsequently in the order.

The FAA has determined that this regulation only involves an established body of technical regulations for which frequent and routine amendments are necessary to keep them operationally current. Therefore, this regulation: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9N, Airspace Designations and Reporting Points, dated September 1, 2005, and effective September 15, 2005, is amended as follows:

Paragraph 2004 Jet Routes

* * * * *

J-158 [Revised]

From Mina, NV, via Lucin, UT; Malad City, ID; Big Piney, WY; Muddy Mountain, WY; Rapid City, SD; to Aberdeen, SD.

* * * * *

Issued in Washington, DC, on December 1, 2005.
Edith V. Parish,
Manager, Airspace and Rules.

[FR Doc. 05-23758 Filed 12-7-05; 8:45 am]

BILLING CODE 4910-13-P